DEPARTMENT OF STATE

[Public Notice 5742]

Meeting of Advisory Committee on International Communications and Information Policy

The Department of State announces the next meeting of its Advisory Committee on International Communications and Information Policy (ACICIP) to be held on April 19, 2007, from 10 a.m. to 12 Noon, in the Dean Acheson Auditorium of the Harry S. Truman Building of the U.S. Department of State. The Truman Building is located at 2201 C Street, NW., Washington, DC 20520.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Richard E. Wiley of Wiley Rein LLP. Ambassador David A. Gross, Deputy Assistant Secretary and U.S. Coordinator for International Communications and Information Policy, and other senior U.S. Government officials will address the meeting.

The main focus of this meeting will be to discuss the U.S. preparations, including formation of the U.S. delegation, for the 2007 World Radiocommunication Conference (WRC-07) that will take place in Geneva, Switzerland, October 22-November 16, 2007. WRC-07 will meet to consider proposals to revise the international Radio Regulations including the Table of Frequency Allocations, technical provisions such as power limits, and regulatory provisions such as coordination procedures for satellite network frequency assignment. Department officials will also report on certain Digital Freedom Initiative activities that have taken place from January 1, 2007.

Members of the public may submit suggestions and comments to the ACICIP. Submissions regarding an event, consultation, meeting, etc. listed in the agenda above should be received by the ACICIP Executive Secretary (contact information below) at least ten working days prior to the date of that listed event. They should be submitted in written form and should not exceed one page for each country (for comments on consultations) or for each subject area (for other comments). Resource limitations preclude acknowledging or replying to submissions.

While the meeting is open to the public, admittance to the Department of State building is only by means of a pre-arranged clearance list. In order to be placed on the pre-clearance list, we must receive the following information from you no later than 5 p.m. on Tuesday, April 17, 2007 (Please note that this information is not retained by the ACICIP Executive Secretary and must therefore be re-submitted for each ACICIP meeting):

I. State that you are Requesting Pre-Clearance to a Meeting.

II. Provide the Following Information:

1. Name of meeting and its date and time.

2. Visitor's full name.

3. Company/Agency/Organization.

4. Title at Company/Agency/Organization.

5. Date of birth.

6. Citizenship.

7. Type of ID visitor will show upon entry (from list below).

• U.S. driver's license with photo.

• Passport.

• U.S. government agency ID.

8. ID number on the ID visitor will show upon entry.

Send the above information to Richard W. O'Brien by fax (202) 647-0158 or e-mail o'brienrw@state.gov.

Privacy Act Statement: The above information is sought pursuant to 5 U.S.C. 301 and 22 U.S.C. §§ 2651a, 4802(a). The principal purpose for collecting the information is to assure protection of U.S. Department of State facilities. The information provided also may be released to federal, state or local agencies for law enforcement, counter-terrorism or homeland security purposes, or to other federal agencies for certain personnel and records management matters. Providing this information is voluntary but failure to do so may result in denial of access to U.S. Department of State facilities.

All visitors for this meeting must use the 23rd Street entrance. The valid ID bearing the number provided with your pre-clearance request will be required for admittance. Non-U.S. government attendees must be escorted by Department of State personnel at all times when in the building.

For further information, please contact Richard W. O'Brien, Executive Secretary of the Committee, at (202) 647-4736 or o'brienrw@state.gov.

General information about ACICIP and the mission of International Communications and Information Policy at the Department of State is available at our Web site: http://www.state.gov/e/eeb/adcom/c667.htm

Dated: March 27, 2007.
Richard W. O'Brien,
Executive Secretary, ACICIP, Department of State.

[FR Doc. E7-6292 Filed 4-4-07; 8:45 am]

BILLING CODE 4710-07-P